DEPARTMENT OF TRANSPORTATION

Federal Aviation Administration

14 CFR Part 39

[Docket No. 2000-NM-303-AD]

RIN 2120-AA64

Airworthiness Directives; Boeing Model 777-200 Series Airplanes

AGENCY: Federal Aviation Administration, DOT.

ACTION: Notice of proposed rulemaking (NPRM).

SUMMARY: This document proposes the adoption of a new airworthiness directive (AD) that is applicable to certain Boeing Model 777-200 series airplanes. This proposal would require repetitive detailed visual and ultrasonic inspections of the lower flange of the flaperon inboard support to find cracking, and corrective actions, if necessary. This proposal also would require a modification, which would terminate the repetitive inspections. This action is necessary to prevent fracture of the inboard support structure, which could result in an in-flight loss of the inboard flaperon, structural damage, and consequent reduced controllability of the airplane. This action is intended to address the identified unsafe condition.

DATES: Comments must be received by March 2, 2001.

ADDRESSES: Submit comments in triplicate to the Federal Aviation Administration (FAA), Transport Airplane Directorate, ANM-114, Attention: Rules Docket No. 2000-NM-303-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2000-NM-303-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Stan Wood, Aerospace Engineer, Airframe Branch, ANM-120S, FAA, Seattle Aircraft Certification Office, 1601 Lind Avenue, SW., Renton, Washington 98055-4056; telephone (425) 227-2772; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-303-AD.” The postcard will be date stamped and returned to the commenter.

Availability of NPRMs

Any person may obtain a copy of this NPRM by submitting a request to the FAA, Transport Airplane Directorate, ANM-114, Attention: Rules Docket No. 2000-NM-303-AD, 1601 Lind Avenue, SW., Renton, Washington 98055-4056.

Discussion

Flight testing of certain Boeing Model 777-200 series airplanes showed that high engine thrust conditions during takeoff cause tremendous cyclic loads on the support structure of the inboard flaperon. Based on engineering analysis, fatigue cracks of the support structure could develop at approximately 4,000 flight cycles. Such fatigue cracking could result in fracture of the inboard support structure, in-flight loss of the inboard flaperon, significant damage to the surrounding structure, and consequent reduced controllability of the airplane.

Explanation of Relevant Service Information

The FAA has reviewed and approved Boeing Alert Service Bulletin 777-57A0036, dated June 24, 1999, which describes procedures for detailed visual and ultrasonic inspections of the lower flange of the flaperon inboard support to find cracking, and corrective actions if cracking is found. The corrective actions consist of accomplishment of the terminating action in Part 2 of the service bulletin. The terminating action includes, but is not limited to, a high frequency eddy current inspection to find cracks of the aft holes that attach the failsafe strap to the lower flange, oversizing of the holes if cracks are found, and installation of a failsafe strap. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Differences Between Service Bulletin and This Proposed AD

While the effectivity listing of the service bulletin includes airplanes having line numbers (L/N) 2 through 9 inclusive; this proposed AD would apply to airplanes having L/N's 1 through 9 inclusive. The FAA has determined that the subject area on the airplane with L/N 1 is identical to the subject areas on the Model 777-200 series airplanes listed in the service bulletin; so the airplane with L/N 1 is also subject to the identified unsafe condition.

Although the service bulletin specifies that the manufacturer may be contacted for instructions on repair of certain conditions, this proposed AD would require the repair of those conditions to be accomplished per a method approved by the FAA, or per data meeting the type certification basis of the airplane approved by a Boeing Company Designated Engineering Representative who has been authorized by the FAA to make such findings.

Cost Impact

There are approximately 9 airplanes of the affected design in the worldwide fleet.

The FAA estimates that 1 airplane of U.S. registry would be affected by this proposed AD.

It would take approximately 3 work hours per airplane to accomplish the proposed inspections, at an average labor rate of $60 per work hour. Based on these figures, the cost impact of the inspections proposed by this AD on U.S. operators is estimated to be $180 per airplane, per inspection cycle.

It would take approximately 6 work hours per airplane to accomplish the proposed terminating action, at an average labor rate of $60 per work hour. Required parts would cost approximately $2,932 per airplane. Based on these figures, the cost impact of the terminating action proposed by this AD on U.S. operators is estimated to be $3,292 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2000-NM-303-AD.

Applicability: Model 777-200 series airplanes, line numbers (L/N) 1 through 9 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance per paragraph (c) of this AD. The request should include an assessment of the effect of the modification, alteration, or repair on the unsafe condition addressed by this AD; and, if the unsafe condition has not been eliminated, the request should include specific proposed actions to address it.

Compliance: Required as indicated, unless accomplished previously.

To prevent fracture of the inboard support structure of the flaperon, which could result in an in-flight loss of the inboard flaperon, structural damage, and consequent reduced controllability of the airplane, accomplish the following:

Repetitive Inspections

(a) Before the accumulation of 4,000 total flight cycles, or within 90 days after the effective date of this AD, whichever occurs later: Do a detailed visual and an ultrasonic inspection of the lower flange of the flaperon inboard support to find cracks per Part 1 of the Accomplishment Instructions of Boeing Alert Service Bulletin 777-57A0036, dated June 24, 1999.

(1) If no cracking is found: Repeat the applicable inspections thereafter at intervals not to exceed 300 flight cycles until accomplishment of the terminating action specified in paragraph (b) of this AD.

(2) If any cracking is found, before further flight, do the terminating action required by paragraph (b) of this AD, except, where the service bulletin specifies to contact Boeing for instructions, before further flight, repair per a method approved by the Manager, Seattle Aircraft Certification Office (ACO), FAA; or per data meeting the type certification basis of the airplane approved by a Boeing Company Designated Engineering Representative (DER) who has been authorized by the Manager, Seattle ACO, to make such findings. For a repair method to be approved by the Manager, Seattle ACO, as required by this paragraph, the approval letter must specifically reference this AD.

Terminating Action

(b) On or before the accumulation of 8,000 total flight cycles, or within 1,200 flight cycles after the effective date of this AD, whichever occurs later: Do the terminating action (a high frequency eddy current inspection to find cracks of the aft holes that attach the failsafe strap to the lower flange, oversizing of the holes if cracks are found, and installation of a failsafe strap), per Part 2 of the Accomplishment Instructions of Boeing Alert Service Bulletin 777-57A0036, dated June 24, 1999. Accomplishment of this paragraph terminates the repetitive inspections required by paragraph (a) of this AD.

Alternative Methods of Compliance

(c) An alternative method of compliance or adjustment of the compliance time that provides an acceptable level of safety may be used if approved by the Manager, Seattle ACO, FAA. Operators shall submit their requests through an appropriate FAA Principal Maintenance Inspector, who may add comments and then send it to the Manager, Seattle ACO.

Note 2: Information concerning the existence of approved alternative methods of compliance with this AD, if any, may be obtained from the Seattle ACO.

Special Flight Permit

(d) Special flight permits may be issued per sections 21.197 and 21.199 of the Federal Aviation Regulations (14 CFR 21.197 and 21.199) to operate the airplane to a location where the requirements of this AD can be accomplished.

Issued in Renton, Washington, on January 9, 2001.
Donald L. Riggin,
Acting Manager, Transport Airplane Directorate, Aircraft Certification Service.

[FR Doc. 01-1235 Filed 1-12-01; 8:45 am]

BILLING CODE 4910-13-P